JUDICIAL CONFERENCE OF THE UNITED STATES

Meeting of the Judicial Conference Committee on Rules of Practice and Procedure

AGENCY: Judicial Conference of the United States Advisory Committee on Rules of Bankruptcy Procedure.

ACTION: Notice of Open Meeting.

SUMMARY: The Advisory Committee on Rules of Bankruptcy Procedure will hold a two-day meeting. The meeting will be open to public observation but not participation.

DATES: September 29-30, 2014.

TIME: 8:00 a.m. to 5:00 p.m.

ADDRESSES: United States District Court, Hollings Judicial Center, 83 Meeting Street, Charleston, South Carolina 29401.

FOR FURTHER INFORMATION CONTACT: Jonathan C. Rose, Secretary and Chief Rules Officer, Rules Committee Support Office, Administrative Office of the United States Courts, Washington, DC 20544, telephone (202) 502-1820.

Dated: July 16, 2014.
Jonathan C. Rose,
Secretary and Chief Rules Officer.

[FR Doc. 2014-17105 Filed 7-18-14; 8:45 am]

BILLING CODE 2210-55-P